DEPARTMENT OF HEALTH AND HUMAN SERVICES

Indian Health Service

Request of Public Comment: 60-Day Proposed Information Collection; Indian Health Service Forms To Implement the Privacy Rule (45 CFR Parts 160 and 164); Correction

ACTION: Notice; correction.

SUMMARY: The Indian Health Service published a document in the Federal Register (FR) on June 24, 2009. The document contained two errors.

FOR FURTHER INFORMATION CONTACT: Ms. Betty Gould, Regulations Officer, 801 Thompson Avenue, TMP, Suite 450, Rockville, MD 20852, Telephone (301) 443-7899. (This is not a toll-free number.)

Correction

In the Federal Register of June 24, 2009 in FR Doc. E9-14841, on page 30095, in the third column, second line, 45 CFR 164.522: change 164.522(a)(2)(1) to 164.522(a)(2); and on page 30095, in the table 45 CFR Section/IHS form, change 164.506, IHS-810 to 164.508, IHS-810.

Dated: July 17, 2009.
Yvette Roubideaux,
Director, Indian Health Service.

[FR Doc. E9-17452 Filed 7-23-09; 8:45 am]

BILLING CODE 4165-16-M